ENVIRONMENTAL PROTECTION AGENCY

[FRL-7798-4]

Science Advisory Board Staff Office; Notification of Upcoming Science Advisory Board Meetings

AGENCY: Environmental Protection Agency (EPA).

ACTION: Notice.

SUMMARY: The EPA Science Advisory Board (SAB) Staff Office announces two public teleconference meetings to discuss the review of two draft SAB reports.

DATES: August 18, 2004, 1-2:30 pm (Eastern Time) and August 23, 2004, 3-4:30 pm (Eastern Time). A public telephone conference meeting of the SAB Quality Review Committee (QRC) to discuss the draft SAB report, Review of EPA's Draft Report on the Environment 2003, will be held on August 18, 2004 from 1 p.m. to 2:30 p.m (Eastern Time). A second public telephone conference meeting will be held on August 23, 2004, from 3 p.m. to 4:30 p.m (Eastern Time) to discuss the draft SAB Report of the U.S. EPA Science Advisory Board's 3MRA Panel on the Multimedia, Multipathway, and Multireceptor Risk Assessment (3MRA) Modeling System.

ADDRESSES: The meetings for these reviews will be held by telephone only.

FOR FURTHER INFORMATION CONTACT: Members of the public who wish to obtain further information regarding these teleconference meetings may contact Mr. Thomas O. Miller, Designated Federal Officer (DFO), U.S. EPA Science Advisory Board via phone (202) 343-9982) or e-mail at miller.tom@epa.gov.

The SAB Mailing address is: U.S. EPA, Science Advisory Board (1400F), 1200 Pennsylvania Avenue, NW., Washington, DC 20460. General information about the SAB, as well as any updates concerning the meeting announced in this notice, may be found on the SAB Web site at: http://www.epa.gov/sab.

SUPPLEMENTARY INFORMATION: The purpose of the SAB QRC meetings is to conduct a public review and discussion of the two SAB draft reports. The focus of the discussion will be on whether: (i) The original charge questions to the SAB review panel have been adequately addressed, (ii) there are any technical errors or omissions in the report or issues that are inadequately dealt with in the report, (iii) the report is clear and logical, and (iv) any conclusions drawn, or recommendations provided, are supported by the body of information in the review report. The outcome of the QRC review will be one of the following: (i) Recommend SAB approval of the report, (ii) return the report to the review panel for further work, (iii) reject the work of the review panel and request a reconsideration and a revised report in the future, or (iv) recommend that the SAB constitute an entirely new review panel.

Availability of Review Material for the Board Meeting: Documents that are the subject of this meeting are available on the SAB Web site at: http://www.epa.gov/sab/.

Procedures for Providing Public Comment: The SAB Staff Office accepts written public comments of any length, and accommodates oral public comments whenever possible. The SAB Staff Office expects that public statements presented at SAB meetings will not be repetitive of previously submitted oral or written statements. Oral Comments: In general, each individual or group requesting an oral presentation at a teleconference meeting will usually be limited to no more than three minutes per speaker and no more than fifteen minutes total. Interested parties should contact the DFO noted above in writing via e-mail at least one week prior to the meeting in order to be placed on the public speaker list for the meeting. Speakers should provide an electronic copy of their comments for distribution to interested parties and participants in the meeting. Written Comments: Although written comments are accepted until the date of the meeting (unless otherwise stated), written comments should be received in the SAB Staff Office at least one week prior to the meeting date so that the comments may be made available to the committee for their consideration. Comments should be supplied to the DFO at the address/contact information above in the following formats: one hard copy with original signature, and one electronic copy via e-mail (acceptable file format: Adobe Acrobat, WordPerfect, Word, or Rich Text files (in IBM-PC/Windows 98/2000/XP format).

Meeting Accommodations: Individuals requiring special accommodation to access these meetings, should contact the DFO at least five business days prior to the meeting so that appropriate arrangements can be made.

Dated: July 30, 2004.
Vanessa T. Vu,
Director, EPA Science Advisory Board Staff Office.

[FR Doc. 04-18026 Filed 8-6-04; 8:45 am]

BILLING CODE 6560-50-P